DEPARTMENT OF COMMERCE

National Oceanic and Atmospheric Administration

50 CFR Part 224

[I.D. 040704A]

Endangered Fish and Wildlife; Advance Notice of Proposed Rulemaking (ANPR) for Right Whale Ship Strike Reduction; Extension of Public Comment Period; Notice of Public Meetings

AGENCY: National Marine Fisheries Service (NMFS), National Oceanic and Atmospheric Administration (NOAA), Commerce.

ACTION: Notice of public meetings and extension of public comment period.

SUMMARY: NMFS is conducting public meetings along the Atlantic coast in association with an ANPR published June 1, 2004, which provided that NMFS is considering regulations to implement a strategy to reduce mortalities to North Atlantic right whales as a result of vessel collisions. The public, as well as Federal, state, and local agencies are encouraged to participate in these meetings. In addition, to ensure the public has adequate time to review and comment on the ANPR, NMFS is extending the comment period on the ANPR until September 15, 2004.

DATES: Written and electronic comments on the ANPR must be received (see ADDRESSES) no later than 5 p.m. Eastern Standard Time on September 15, 2004. The public meetings will be held in July and August 2004. See SUPPLEMENTARY INFORMATION for specific dates, times, and locations.

ADDRESSES: Comments should be sent to: Chief, Marine Mammal Conservation Division, Attn: Right Whale Ship Strike Strategy, Office of Protected Resources, NMFS, 1315 East-West Highway, Silver Spring, MD 20910. Comments may be sent via fax to (301)427-2522, Attn: Right Whale Ship Strike Strategy. Comments may also be sent via email to shipstrike.comments@noaa.gov or to the Federal eRulemaking portal: http://www.regulations.gov (follow instructions for submitting comments).

The June 1, 2004, ANPR may be obtained at www.nmfs.noaa.gov/pr/ under the 'Recent News and Hot Topics' link. Using the drop-down menu, the link 'Ship Strike Strategy' provides access to the ANPR, as well as links to background and supporting documentation related to the proposed strategy.

FOR FURTHER INFORMATION CONTACT: Aleria Jensen, Fishery Biologist, Office of Protected Resources, NMFS, at (301) 713-2322; Pat Gerrior, Fishery Biologist, Northeast Regional Office, NMFS, at (508) 495-2264; or Barb Zoodsma, Fishery Biologist, Southeast Regional Office, NMFS, at (904) 321-2806.

SUPPLEMENTARY INFORMATION: This document provides additional opportunity for public involvement in the development and implementation of a strategy to address the lack of recovery of the endangered North Atlantic right whale by reducing the likelihood and threat of ship strike mortalities to the species. The strategy is described in greater detail in the ANPR published June 1, 2004 (69 FR 30857). In summary, it is a multi-faceted plan that includes potential routing changes, speed reductions, and the use of dynamic management areas as proposed operational measures. In association with the comment period on the ANPR, NMFS is holding five public meetings to present the strategy and solicit information on the development and implementation of the proposed new operational measures. In addition, the agency intends to convene a series of smaller focal group meetings through its regional Right Whale Recovery Implementation Teams to discuss specific stakeholder questions and concerns. Comments received during the ANPR comment period and in associated meetings will assist the agency in subsequent rulemaking decisions about using this methodology to reduce the threat of ship collisions to right whales.

Schedule of Public Scoping Meetings

The dates, times, and locations of the meetings are scheduled as follows:

1. Tuesday, July 20, 2004, 3 to 6 p.m.

Tip O'Neill Federal Building, Rm 335 A & B, 10 Causeway Street, Boston, MA 02222.

2. Wednesday, July 21, 2004, 3 to 6 p.m. Jersey City-Newport Courtyard Marriot, 540 Washington Blvd, Jersey City, NJ 07310.

3. Monday, July 26, 2004, 3 to 6 p.m. Hilton Riverside Wilmington, 301 N. Water Street, Wilmington, NC 28401.

4. Tuesday, July 27, 2004, 3 to 6 p.m. Radisson Riverwalk Hotel, 1515 Prudential Drive, Jacksonville, FL 32207-8133.

5. Tuesday, August 3, 2004, 3 to 6 p.m. NOAA Headquarters Science Center, 1315 East West Highway, Silver Spring, MD 20910.

NMFS is also extending the comment period on the ANPR through September 15, 2004, to include public input at the public meetings and to give the public time to comment after attending the meetings.

Special Accommodations

These meetings are physically accessible to people with disabilities. Request for sign language interpretation or other auxiliary aids should be directed to Aleria Jensen at 301-713-2322.

Laurie K. Allen,
Director, Office of Protected Resources, National Marine Fisheries Service.

[FR Doc. 04-15612 Filed 7-8-04; 8:45 am]

BILLING CODE 3510-22-S